DEPARTMENT OF DEFENSE

Department of the Navy

Certificate of Alternate Compliance for PCU JOHN F. KENNEDY (CVN 79)

AGENCY: Department of the Navy, Department of Defense.

ACTION: Notice of issuance of Certificate of Alternate Compliance.

SUMMARY: The U.S. Navy hereby announces that a Certificate of Alternate Compliance has been issued for PCU JOHN F. KENNEDY (CVN 79). Due to the special construction and purpose of this vessel, the Admiralty Counsel of the Navy has determined it is a vessel of the Navy which, due to its special construction and purpose, cannot comply fully with the navigation lights provisions of the International Regulations for Preventing Collisions at Sea, 1972 (72 COLREGS) without interfering with its special function as a naval ship. The intended effect of this notice is to warn mariners in waters where 72 COLREGS apply.

DATES: This Certificate of Alternate Compliance is effective February 17, 2026 and is applicable beginning October 31, 2025.

FOR FURTHER INFORMATION CONTACT: Lieutenant Commander Ryan Feingold, JAGC, U.S. Navy, Admiralty Attorney, Office of the Judge Advocate General, Admiralty and Claims Division (Code 15), 1322 Patterson Ave. SE, Suite 3000, Washington Navy Yard, DC 20374-5066, 202-685-5075, or admiralty@us.navy.mil.

SUPPLEMENTARY INFORMATION: Background and Purpose. Executive Order (E.O) 11964 (42 FR 4327; January 19, 1977) and 33 U.S.C. 1605 provide that the requirements of the International Regulations for Preventing Collisions at Sea, 1972 (72 COLREGS), as to the number, position, range, or arc of visibility of lights or shapes, as well as to the disposition and characteristics of sound-signaling appliances, shall not apply to a vessel or class of vessels of the Navy where the Secretary of the Navy shall find and certify that, by reason of special construction or purpose, it is not possible for such vessel(s) to comply fully with the provisions without interfering with the special function of the vessel(s). Notice of issuance of a Certificate of Alternate Compliance must be made in the Federal Register.

In accordance with 33 U.S.C. 1605, the Admiralty Counsel of the Navy, under authority delegated by the Secretary of the Navy, hereby finds and certifies that PCU JOHN F. KENNEDY (CVN 79) is a vessel of special construction or purpose, and that, with respect to the position of the following navigational lights, it is not possible to comply fully with the requirements of the provisions enumerated in the 72 COLREGS without interfering with the special function of the vessel:

Rule 21(a) pertaining to the arc of visibility of the forward and aft masthead lights; Rule 21(b) pertaining to the arc of visibility of the port and starboard sidelights; Rule 21(c) pertaining to the arc of visibility of the sternlight; Rule 30(a)(i) and 30(a)(ii) pertaining to the location and arc of visibility of the all-round anchor lights, forward and aft; Annex I, Paragraph (3)(a) pertaining to the location of the forward masthead light in relation to the forward quarter of the ship; and Annex I, Paragraph 2(g) pertaining to the height of the port and starboard sidelights.

The Admiralty Counsel of the Navy further finds and certifies that these navigational lights are in closest possible compliance with the applicable provision of the 72 COLREGS.

(Authority: 33 U.S.C. 1605(c), E.O. 11964)

Dated: February 11, 2026.
J.F. Siladi,
Lieutenant Commander, Judge Advocate General's Corps, U.S. Navy, Federal Register Liaison Officer.

[FR Doc. 2026-03035 Filed 2-13-26; 8:45 am]

BILLING CODE 3810-FF-P